DEPARTMENT OF TRANSPORTATION

Federal Aviation Administration

Notice of Intent To Rule on Application To Impose and Use the Revenue From a Passenger Facility Charge (PFC) at Mid Delta Regional Airport, Greenville, MS

AGENCY: Federal Aviation Administration (FAA), DOT.

ACTION: Notice of intent to rule on application.

SUMMARY: The FAA proposes to rule and invites public comment on the application to impose and use the revenue from a PFC at Mid Delta Regional Airport under the provisions of the Aviation Safety and Capacity Expansion Act of 1990) (Title IX of the Omnibus Budget Reconciliation Act of 1990 (Public Law 101-508) and Part 158 of the Federal Aviation Regulations (14 CFR Part 158).

DATES: Comments must be received on or before June 16, 2000.

ADDRESSES: Comments on this application may be mailed or delivered in triplicate to the FAA at the following address: Airport District Office, Federal Aviation Administration, 100 West Cross Street, Suite B, Jackson, MS 39208-2307.

In addition, one copy of any comments submitted to the FAA must be mailed or delivered to Mr. Clifton E. Nash, Airport Director of the City of Greenville at the following address: 166 Fifth Avenue, Suite 300, Greenville, MS 38703-9737.

Air carriers and foreign air carriers may submit copies of written comments previously provided to the City of Greenville under section 158.23 of Part 158.

FOR FURTHER INFORMATION CONTACT: Patrick Vaught, Program Manager, FAA/Airports District Office, 100 West Cross Street, Suite B, Jackson, MS 39208-2307, 601-664-9885. The application may be reviewed in person at this same location.

SUPPLEMENTARY INFORMATION: The FAA proposes to rule and invites public comment on the application to impose and use the revenue from a PFC at Mid Delta Regional Airport under the provisions of the Aviation Safety and Capacity Expansion Act of 1990 (Title IX of the Omnibus Budget Reconciliation At of 1990) (Public Law 101-508) and Part 158 of the Federal Aviation Regulation (14 CFR Part 258).

On May 10, 2000, the FAA determined that the application to impose and use the revenue from a PFC submitted by City of Greenville was substantially complete within the requirements of section 158.25 of Part 158. The FAA will approve or disapprove the application, in whole or in part, no later than August 32, 000.

The following is a brief overview of the application.

PFC Application No.: 00-02-C-00-GLH.

Level of the proposed PFC: $3.00.

Proposed charge effective date: October 1, 2000.

Proposed charge expiration date: February 1, 2003.

Total estimated net PFC revenue: $82,743.

Brief description of proposed project(s): Acquire Airfield Sweeper, Develop New DBE Plan, Conduct Airport Master Plan Study Phase I, Develop Plans & Specifications for Airport Access Road Rehabilitation, Purchase 4KW Regulator for Taxiway Lights, Conduct Airport Master Plan Study Phase II, Rehabilitate Airport Access Road, Rehabilitate Taxiway B, Construct & Rehabilitative Security Fence.

Class or classes of air carriers which the public agency has requested not be required to collect PFCs:

Air Taxi/Commercial Operators filing Form 1800-31.

Any person may inspect the application in person at the FAA office listed above under FOR FURTHER INFORMATION CONTACT.

In addition, any person may, upon request, inspect the application, notice and other documents germane to the application in person at the City of Greenville, Mid Delta Regional Airport.

Issued in Jackson, Mississippi on May 10, 2000.
Keafur Grimes,
Acting Manager, Jackson Airports District Office, Southern Region.

[FR Doc. 00-12422 Filed 5-16-00; 8:45 am]

BILLING CODE 4910-13-M